DEPARTMENT OF THE INTERIOR

Fish and Wildlife Service

[FWS-R5-R-2010-N116; BAC-4311-K9-S3]

Final Comprehensive Conservation Plan; John Hay National Wildlife Refuge, Merrimack County, NH

AGENCY: Fish and Wildlife Service, Interior.

ACTION: Notice of availability.

SUMMARY: We, the U.S. Fish and Wildlife Service (Service), announce the availability of the final comprehensive conservation plan (CCP) and finding of no significant impact (FONSI) for the environmental assessment (EA) for John Hay National Wildlife Refuge (NWR). In this final CCP, we describe how we will manage this refuge for the next 15 years.

ADDRESSES: You may view or obtain copies of the final CCP and FONSI by any of the following methods. You may request a hard copy or CD-ROM.

Agency Web Site: Download a copy of the document(s) at http://www.fws.gov/northeast/planning/JohnHay/ccphome.html.

Electronic mail: northeastplanning@fws.gov. Include “John Hay final CCP” in the subject line of the message.

U.S. Postal Service: Silvio O. Conte National Fish and Wildlife Refuge Complex, 103 East Plumtree Road, Sunderland, MA 01375.

In-Person Viewing or Pickup: Call 413-548-8002 to make an appointment during regular business hours at 103 East Plumtree Road, Sunderland, Massachusetts.

Facsimile: 413-548-9725.

FOR FURTHER INFORMATION CONTACT: Andrew French, Project Leader, Silvio O. Conte National Fish and Wildlife Refuge, 103 East Plumtree Road, Sunderland, MA 01375; phone: 413-548-8002; facsimile: 413-548-9725; electronic mail: andrew_french@fws.gov.

SUPPLEMENTARY INFORMATION:

Introduction

With this notice, we finalize the CCP process for John Hay NWR. We started this plan's development through a notice in the Federal Register (73 FR 76376) on December 16, 2008. We released the draft CCP/EA to the public, announcing and requesting comments in a notice of availability in the Federal Register (75 FR 7287) on February 18, 2010.

John Hay NWR was established as a migratory bird and wildlife reservation in 1972. Alice Hay donated the 164-acre summer estate of John Hay to the Service. From 1987 to 2008, the refuge was cooperatively managed by several partners, including the New Hampshire State Parks, and then The Fells, a non-profit organization dedicated to maintaining the John Hay estate. In 2008, the refuge transferred 84 acres containing the estate buildings and grounds to The Fells and retained approximately 80 forested acres on the shores of Lake Sunapee in Newbury, New Hampshire, as John Hay NWR. In exchange for this land transfer, 727 (+/-) acres were appended to Umbagog NWR. Refuge property extends to the normal high-water line. Therefore, when we refer to Service ownership or describe shoreline refuge management actions, we generally mean those areas above the normal high-water line.

We announce our decision and the availability of the FONSI for the final CCP for John Hay NWR in accordance with National Environmental Policy Act (NEPA) (40 CFR 1506.6(b)) requirements. We completed a thorough analysis of impacts on the human environment, which we included in the draft CCP/EA.

The CCP will guide us in managing and administering John Hay NWR for the next 15 years. Alternative B, as we described in the draft CCP/EA, is the foundation for the final CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including Selected Alternative

Our draft CCP/EA (75 FR 7287) addressed several key issues, including the amount of grasslands to manage, other priority habitat types to conserve, land protection and conservation priorities, improving the visibility of the Service and refuge, providing desired facilities and activities, and ways to improve opportunities for public use while ensuring the restoration and protection of priority resources.

To address these issues and develop a plan based on the purposes for establishing the refuge and the vision and goals we identified, three alternatives were evaluated in the EA. The alternatives have some actions in common, such as protecting and monitoring Federally listed species and the regionally significant bald eagle population, controlling invasive plants and wildlife diseases, encouraging research that benefits our resource decisions, protecting cultural resources, and distributing refuge revenue-sharing payments to counties.

Other actions distinguish the alternatives. Alternative A, or the “No Action Alternative,” is defined by our current management activities. It serves as the baseline against which to compare the other two alternatives. Our habitat management and visitor services programs would not change under this alternative. We would continue to use the same tools and techniques, and not expand existing facilities. Under Alternative A, we would continue to passively manage refuge lands through collaboration with partners and the Service would have minimal presence. Habitat management would be limited to promoting visitor safety and responding to invasive plants or animals that can impact habitat integrity or priority wildlife. No other active wildlife or habitat management would occur except the existing mowing of the meadow and viewing corridor, which provides early successional forest habitat. Minimal coordination with The Fells, Forest Society, Lake Sunapee Protective Association, and New Hampshire Audubon for wildlife, water quality, and habitat protection would continue on an as-needed basis. The current level and types of visitor services would continue on the refuge. Administration of visitor services, land protection, and biological and law enforcement activities would be handled by existing staff from Silvio O. Conte National Fish and Wildlife Refuge. We would maintain our current minimal visitor services, biological and law enforcement activities, and administration through the Sunderland office as funds and staffing permit.

Alternative B (the Service-preferred alternative) includes an array of management actions that, in our professional judgment, work best toward achieving the purposes of the refuge, our vision and goals for those lands, the NWRS mission, and the goals in State and regional conservation plans. Under Alternative B, we would emphasize the management of specific refuge habitats to support focal species whose habitat needs benefit other species of conservation concern in the Lake Sunapee region. In particular, we would emphasize habitat for priority bird species of conservation concern in the Bird Conservation Region 14 and Partners in Flight Physiographic Area 27 plans, New Hampshire Wildlife Action Plan, Birds of Conservation Concern 2008, and other conservation plans at State and national scales. We would strive to integrate the habitat management objectives for species of concern with maintaining the cultural heritage of the former John Hay estate. In addition, we would focus on making improvements to our visitor services through the addition of seasonal on-site staff, fishing as an approved public use, and a minor expansion of our trail system on the refuge. We would construct an alternate route for the John Hay II Forest Ecology Trail to allow visitors to return to the trailhead without entering The Fells' property, post explanatory signage at the trailhead and at the point of entry to The Fells, install a kiosk at the trailhead and interpretive and informational signs throughout the refuge to incrementally increase visitor awareness of refuge resources, add a spur trail to the fen and back with informational signage on the ecology of fens, and install a footbridge(s) where stream crossing of Beech Brook is a concern for public safety and stream health. Finally, our biological program would be enhanced through partnerships that would increase our ability to conduct surveys and long-term monitoring.

Alternative C is similar in many respects to Alternative B, but proposes more intensive forest management and wildlife dependent recreation, with a philosophy of maintaining the character and history of the forest, to the extent that it does not compromise the refuge purposes and goals. Generally, white pine (Pinus strobus) and other native species would be encouraged to regenerate. The addition of permanent staff would enhance the visitor services program through a much broader array of programming and outreach. In addition to the trail and signage improvements proposed with Alternative B, under Alternative C we would improve the Ecology Trail to be compliant with the Americans with Disabilities Act and lead to a viewing platform at the lakeshore. Both fishing and hunting would be added as new public uses at the refuge. Biological programs would incorporate more surveys and the ability to conduct habitat improvements.

Comments

We solicited comments on the draft CCP/EA for a 30-day period of public review and comment from February 18 to March 22, 2010, and held a public meeting on March 11, 2010, in Newbury, New Hampshire. We received 18 unique letters and oral comments representing individuals, organizations, and State agencies. Appendix F in the final CCP includes a summary of those comments and our responses to them.

Selected Alternative

After considering the comments we received on our draft CCP/EA, we have selected Alternative B for implementation for several reasons. Alternative B comprises the mix of actions that, in our professional judgment, works best towards achieving refuge purposes, our vision and goals, and the goals of other State and regional conservation plans. We also believe it most effectively addresses the key issues raised during the planning process. The basis of our decision is detailed in Appendix G of the CCP.

Public Availability of Documents

You can view or obtain documents as indicated under ADDRESSES.

Dated: June 24, 2010.
Sherry W. Morgan,
Acting Regional Director, Northeast Region, U.S. Fish and Wildlife Service.

[FR Doc. 2010-20305 Filed 8-16-10; 8:45 am]

BILLING CODE 4310-55-P